DEPARTMENT OF TRANSPORTATION

Federal Transit Administration

[Docket Number: FTA-2006-24947]

Notice of Availability of Interim Guidance and Instructions for Small Starts

AGENCY: Federal Transit Administration (FTA), DOT.

ACTION: Notice of availability.

SUMMARY: This notice announces the availability of the Federal Transit Administration's (FTA) Final Interim Guidance and Instructions for Small Starts which was initially issued for comment on June 6, 2006. This Guidance describes the eligibility, evaluation, and project development procedures for projects seeking Small Starts funding, as well as the information required from project sponsors to evaluate and rate a project for the purpose of project advancement or a funding recommendation. FTA is in the process of broader rulemaking on its major capital investments program, but the Interim Guidance and Instructions will allow projects into project development. The document will also enable FTA to evaluate and rate projects as part of the Annual New Starts Report and make funding recommendations prior to completion of the broader rulemaking process. For a Small Starts project to be included in the FY2008 Annual New Starts Report and considered for a funding recommendation, project information must be received by FTA by September 15, 2006 and any response to FTA comments on the submittal must be completed by October 15, 2006.

EFFECTIVE DATE: These policies and procedures will take effect on August 8, 2006.

FOR FURTHER INFORMATION CONTACT: Ron Fisher, Office of Planning and Environment, telephone (202) 366-4033, Federal Transit Administration, U.S. Department of Transportation, 400 Seventh Street, SW., Washington, DC 20590 or Ronald.Fisher@dot.gov.

SUPPLEMENTARY INFORMATION:

1. Availability of the Final Guidance and Comments

A copy of the Proposed and Final Interim Guidance and Instructions for Small Starts, comments received on the Proposed Interim Guidance, and FTA's response to comments received from the public are part of docket FTA-2006-24947 and are available for inspection or copying at the Docket Management Facility, U.S. Department of Transportation, Room PL-401 on the plaza level of the Nassif Building, 400 Seventh Street, SW., Washington, DC between 9 a.m. and 5 p.m., Monday through Friday, except Federal holidays. You may retrieve the guidance and comments online through the Document Management System (DMS) at: http://dms.dot.gov. Enter docket number 24947 in the search field. The DMS is available 24 hours each day, 365 days each year. Electronic submission and retrieval help and guidelines are available under the help section of the Web site. An electronic copy of this document may also be downloaded by using a computer, modem and suitable communications software from the Government Printing Office's Electronic Bulletin Board Service at (202) 512-1661. Internet users may also reach the Office of the Federal Register's home page at: http://www.nara.gov/fedreg and the Government Printing Office's Web page at: http://www.gpoaccess.gov/fr/index.html.

2. Background

On August 10, 2005, President Bush signed the Safe, Accountable, Flexible, Efficient Transportation Equity Act: A Legacy for Users (SAFETEA-LU). Section 3011 of SAFETEA-LU made a number of changes to 49 U.S.C. 5309, which authorizes the Federal Transit Administration's (FTA's) capital investment program known as “New Starts.” In addition to the changes made to the New Starts program, 49 U.S.C. 5309 has been amended with the addition of a new subsection (e) containing a new capital investment program category for projects requesting less than $75,000,000 in Section 5309 capital investment funds with a total project cost of less than $250,000,000. That new capital investment program, which will be referred to as the “Small Starts” program, is the subject of this Interim Guidance and Instructions. FTA, through its rulemaking authority, plans to propose regulations that would (1) implement changes to the existing New Starts program made by section 3011 of SAFETEA-LU and (2) formalize the requirements for the Small Starts program.

On June 6, 2006, FTA published a Notice of Availability of the Proposed Interim Guidance and Instructions for Small Starts for Comments in the Federal Register (71 FR 33503, Jun. 9, 2006). FTA requested—and received—comments on the Guidance in the June notice. This Final Interim Guidance and Instructions for Small Starts reflects FTA's consideration of these comments. FTA finds that there is good cause to make this guidance effective upon publication of this notice because sponsors of projects seeking Small Starts funding must have adequate time to prepare information that FTA will use to evaluate projects for inclusion in the President's FY2008 budget request to Congress. As noted above, the deadline to submit these materials to the FTA is September 15, 2006. This notice announces the availability of FTA's final Interim Guidance and Instructions for Small Starts. This document is available on the docket, which can be accessed by going to http://dms.dot.gov, or on FTA's Web site for New Starts Planning and Project Development at http://www.fta.dot.gov.

3. Response to Comments

Comments were received from 26 parties. These include transit agencies, trade organizations, Members of Congress, and private consulting firms. This section highlights the key issues identified in the comments on the Proposed Interim Guidance and Instructions for Small Starts, as well as FTA's response.

More Emphasis Needed on Economic Development Criterion

Comments: A total of eight comments were received. Respondents noted the need for a greater role in the evaluation of economic development. In addition, it was suggested that a separate evaluation criterion be created instead of including economic development in the “other factors” category as was proposed.

FTA Response: The underlying premise for this interim guidance is not to impose any significant changes in the process until the rulemaking process has been completed. Further, there is a significant challenge involved in properly evaluating a project's positive effect on local economic development and establishing a system that can be applied nationally, as well as the informational burden on project sponsors that this would entail. Accordingly, FTA has determined that the best way to allow for the consideration of economic development at this stage is to give project sponsors the opportunity to provide evidence of the project's impact on development under “other factors.” Thus, no change was made from the approach offered in the Proposed Interim Guidance. The approach allows project sponsors to cite well-reasoned, strongly-justified, and verifiable qualitative and quantitative explanations of the expected economic development outcomes of the proposed Small Starts project. This could include developer agreements or any other commitments of development related to the project that would not occur if the project was not constructed.

Streetcars Excluded From Very Small Starts

Comments: A total of 14 comments were received. Respondents indicated concern over several provisions in the Proposed Interim Guidance and Instructions for Small Starts that they believe would establish a process that would make it difficult to fund streetcar projects through the Small Starts program. Respondents claimed that the explicit exclusion of “fixed guideway” projects—and thus rail modes such as urban streetcar—from Very Small Starts eligibility, as well as the performance measures indicated in the Small Starts program, would create a bias against this mode of transit.

FTA Response: FTA established the eligibility criteria for Very Small Starts with the intent that the very nature of the performance of these projects assured a cost-effective project. On reviewing the comments, FTA agrees that the exclusion of a new fixed guideway from the definition of Very Small Starts is unnecessary, as the effectiveness and cost-effectiveness of a fixed guideway project can be assured by these measures. Therefore, FTA will allow the construction of fixed guideway projects to be eligible for Very Small Starts funding if they meet the other criteria established for this category.

Specifically, to be eligible for the Very Small Starts category, the project should (1) Have substantial transit stations; (2) use traffic signal priority/pre-emption, to the extent, if any, that traffic signals exist in the corridor; (3) have low-floor vehicles or level boarding; (4) use a clear brand identity for the proposed service; (5) operate 10 minute peak/15 minute off peak headways or better and operate at least 14 hours per weekday (not required for commuter rail or ferries); (6) be in corridors with at least 3,000 average weekday existing riders who will benefit from the proposed project; and (7) have a total capital cost less than $50 million (including all project elements) and less than $3 million per mile, exclusive of rolling stock.

Majority of Funds Will Go to Very Small Starts Projects Due to the Ease of Evaluation and Implementation

Comments: A total of 11 comments were received. Respondents noted concern that since Very Small Starts projects would have an easier time being rated, that the majority of Small Starts funding would be allocated to Very Small Starts projects. This would mean that very little funding would be available for larger Small Starts, such as fixed guideway rail projects.

FTA Response: The comments are not based on any requirement in the Proposed Interim Guidance, but rather reflect speculation on how FTA will make funding recommendations. The Proposed Interim Guidance did not address how FTA would make its funding decisions, nor did it address the division of funding between Small Starts and Very Small Starts. As with all projects in the Section 5309 capital investment grant program, the evaluation and rating process for Small Starts is separate and distinct from FTA's decision to recommend a project for funding. That decision is driven by a number of factors, including the “readiness” of projects for capital funding, geographic equity, the amount of available funds versus the number and size of the projects in New Starts the pipeline, and the project's overall rating. The Interim Guidance and Instructions have been revised to add a section that clearly states that funding decisions are not covered by the rating process.

Requirement for 1,000 Riders at Endpoints Is Too High for Very Small Starts

Comments: A total of 11 comments were received. Respondents representing both large and small transit agencies, as well as trade organizations, noted that this metric would be difficult to meet. Most respondents noted that this requirement could be met at one end or at points along a route, but achieving 1,000 riders at each endpoint is not likely.

FTA Response: In light of the projected variety of project candidates for Very Small Starts funding, this minimum ridership requirement has been be eliminated in the Interim Guidance and Instructions. However, as with any proposed New Start project, FTA will review the scope and cost of the project to insure that significant costs are not being incurred for unproductive lengths.

Request for Simpler Processes

Comments: A total of 12 comments were received. Respondents noted that the application process for Small Starts funding was too cumbersome in relation to the program's goals and expected project size. Several comments cited similarities between the application process for New Starts and Small Starts. Respondents noted the number of long, involved, and often costly steps in New Starts projects, and hoped to avoid these in the Small Starts program.

FTA Response: FTA believes that significant simplification has been achieved, consistent with the underlying premise of the Proposed Interim Guidance not to make major changes in the process until the rulemaking has been completed. Nevertheless, FTA believes that further simplification may be possible. The rulemaking process underway for New Starts and Small Starts will provide an opportunity to consider additional simplification. The requirements for an alternatives analysis and the information necessary for local financial commitment have been simplified. For Very Small Starts, evidence of eligibility, which is information project sponsors usually develop for a project regardless of funding source, is all that is required for project justification. The timeframe for travel forecasts and financial plans has been reduced to the date of opening, significantly reducing highway and transit network development as well as other information needed for forecasts. Simplified methods for travel forecasts are also possible. The planning and evaluation process has been limited to the factors in the law and the amount of supporting information has been minimized as much as possible without compromising evaluation of project justification and local financial commitment. In addition, in response to the comments, the information required for the rating of land use has been further simplified and included in the Appendix.

Issued in Washington, DC this 2nd day of August 2006.
Sandra K. Bushue,
Deputy Administrator.

[FR Doc. E6-12847 Filed 8-7-06; 8:45 am]

BILLING CODE 4910-57-P